DEPARTMENT OF THE INTERIOR

Bureau of Indian Affairs

Building Tribal Energy Development Capacity

AGENCY: Bureau of Indian Affairs, Interior.

ACTION: Grant program to build tribal energy development capacity.

SUMMARY: The Energy Policy Act of 2005 authorizes the Secretary to provide development grants to Indian tribes and tribal energy resource development organizations for use in developing or obtaining the managerial and technical capacity needed to develop energy resources on Indian land, and to properly account for resulting energy production and revenues. In furtherance of this goal, the Department of the Interior's Office of Indian Energy and Economic Development is soliciting proposals from tribes and tribal energy resource development organizations. The Department will award several grants of up to $50,000 each for this program.

DATES: Submit grant proposals by August 6, 2007. We will not consider grant proposals received after this date.

ADDRESSES: You must submit the Tribal Energy Development Capacity proposal by mail or hand-carry to the Department of the Interior, Office of Indian Energy and Economic Development, Attention: Tribal Energy Development Capacity Proposal, Room 20—South Interior Building, 1951 Constitution Avenue, NW., Washington, DC 20245.

FOR FURTHER INFORMATION CONTACT: Darryl Francois, Program Analyst, Office of Indian Energy and Economic Development, Room 20—South Interior Building, 1951 Constitution Avenue, NW., Washington, DC 20245, Telephone (202) 219-0740 or Fax (202) 208-4564.

SUPPLEMENTARY INFORMATION: Title V, Section 503 of the Energy Policy Act of 2005 (Pub. L. 109-58) amends Title XXVI (Indian Energy) of the Energy Policy Act of 1992 to require the Secretary of the Interior (Secretary) to offer Indian tribes the opportunity to enter into a Tribal Energy Resource Agreement (TERA) with the Department of the Interior. The intent of these agreements is to promote tribal oversight and management of energy and mineral resource development on tribal lands and further the goal of Indian Self-Determination. A TERA offers a tribe an entirely new alternative for entering into energy-related business agreements and leases and for granting rights-of-way for pipelines and electric transmission and distribution lines without the Secretary's review and approval.

The Energy Policy Act of 2005 requires that the Secretary, before approving a TERA with a tribe, make a determination of a tribe's capacity to manage the full scope of administrative, regulatory, and energy resource development that the tribe proposes to assume under an approved TERA.

Recognizing that a tribe wanting to enter into a TERA with the Department may need technical assistance in building its management capacity, the Energy Policy Act of 2005 also authorizes the Secretary to provide development grants to Indian tribes and tribal energy resource development organizations for use in developing or obtaining the managerial and technical capacity needed to develop energy resources on Indian land, and to properly account for resulting energy production and revenues. In furtherance of this goal, the Department of the Interior's Office of Indian Energy and Economic Development (IEED) is soliciting proposals from tribes and tribal energy resource development organizations to achieve the following goals:

• Evaluate the type and range of energy development activities that a tribe may want to assume under a TERA.

• Determine the current level of scientific, technical, administrative, or financial management capacity of the tribe to assume responsibility for the identified development activities; and

• Determine which scientific, technical, administrative, or financial management capacities need enhancement and what process and/or procedures the grantee may use to eliminate these capacity gaps.

A. Items To Consider Before Preparing an Application for a Tribal Energy Devlopment Capacity Grant

1. Trust Land Status

Tribal Energy Development Capacity (TEDC) funding can only be made available to Tribes whose lands are held in trust or restricted fee by the Federal government. Congress has appropriated these funds to develop tribal capacity to manage the full scope of administrative, regulatory, and energy resource development only on Indian trust or restricted fee lands.

2. Tribes' Compliance History

All grant programs are under constant and close scrutiny by the Administration and Congress. Therefore, IEED must monitor all TEDC grants for statutory and regulatory compliance to assure that awarded funds are correctly applied to projects that the IEED is authorized to support. Tribes that expend funds on unapproved functions may forfeit remaining funds in that project year, as well as future year TEDC funding. Consequently, IEED may request a tribe to provide a summary of any funds they have received in past years through award programs administered by IEED, and IEED may conduct a review of award expenditures before making a decision on current year proposals.

3. BIA Sanction List

Tribes who are on the BIA's list of sanctioned tribes with a Level 1 rating will not be considered for an award.

4. Multi-Year Projects

The TEDC program cannot award multi-year funding for a project. Funding available for building energy development capacity is subject to annual appropriations by Congress and therefore IEED can only consider single-year projects. Therefore, Tribal Energy Development Capacity projects should be designed to be completed in one year.

5. What the Tribal Energy Development Capacity Award Cannot Fund

As stated above, these funds are used specifically to assist tribes in an assessment of their ability to manage the full scope of administrative, regulatory, and energy resource development work only. Examples of items that cannot be funded include, but are not limited to the following:

• Purchasing and/or leasing of equipment for the development of energy and mineral resources;

• Establishing or operating a tribal office, and/or purchase of office equipment not specific to the assessment project. Tribal salaries may be included only if they are directly involved in the project and only for the duration of the project;

• Indirect costs and overhead as defined by the Federal Acquisition Regulation (FAR);

• Purchase of project equipment such as computers, vehicles, field gear, etc.;

• The payment of fees or procurement of any services associated with energy assessment or exploration or development activity;

• Legal fees;

• Research and development of unproven technologies;

• Training;

• Contracted negotiation fees;

• Purchase of resource assessment data; and

• Any other activities not authorized by the Tribal resolution or by the award letter.

B. How To Prepare an Application for Tribal Energy Development Capacity Funding

Applications must be prepared in accordance with this section. A complete application for TEDC funding must contain the following components:

(a) A tribal resolution authorizing the proposed project;

(b) A proposal describing the planned activities and deliverable products;

(c) A detailed budget estimate.

IEED will examine every application for these components. Any application that does not contain all of the mandatory components will be considered incomplete and returned to the tribe, with an explanation. Tribes will then be allowed ten working days to correct all deficiencies and submit the application for re-consideration.

1. Mandatory Component 1: Tribal Resolution

The tribal resolution must be current, and it must be signed. It must authorize tribal approval for a TEDC proposed project in the same fiscal year as that of the proposal and must explicitly refer to the proposal being submitted.

2. Mandatory Component 2: Tribal Energy Development Capacity Proposal

A tribe must present its TEDC proposal in the format prescribed in this section. The proposal should be well organized, contain as much detail as possible, yet be presented succinctly to allow a quick and thorough understanding of the proposal by the IEED evaluation team. The proposal must include the following sections:

(a) Overview: A short summary overview of the proposal that includes the following:

—Elements of the proposed study;

—Reasons the proposed study is needed;

—Total requested funding;

—Responsible parties for technical execution and administration of the proposed project; and

—A tribal point of contact for the project and contact information.

(b) Technical Summary and Current Status: Describe in relevant detail the proposed project. Acknowledge any existing capacity assessments or building efforts already underway or previously completed. Give examples of the tribe's experience with energy development activities (both in the target area for capacity assessment and other energy development activities). Describe future plans the tribe has for energy development and growth. The proposed new study should not duplicate previous work. Describe the tribe's existing capabilities in comparison with the spectrum of abilities necessary for successful energy development, including but not limited to the following:

• Land and lease management

• Technical, scientific and engineering assessment

• Financial and revenue management

• Environmental monitoring and assessment

• Regulatory monitoring and development (especially Federal, State, and Tribal environmental and safety regulations)

(c) Project Objectives, Goals and Scope of Work: Describe the work proposed and the project goals and objectives expected to be achieved by the proposed project. Specifically, identify the areas where the proposal's assessment will focus. Describe in relevant detail the scope of work and justify a particular approach to be used in assessing the tribe's capacity to manage energy development activities and determine proposed next steps to be taken to eliminate identified skill gaps.

(d) Deliverable Products: Describe the deliverable products that the proposed project will generate. Discuss and provide deadlines for planned status reports as well as the final report.

(e) Resumes of Key Personnel: If the tribe will use consultant services, provide the resumes of key personnel who will do the project work. The resumes should provide information on each individual's expertise. If subcontractors are used, these should also be disclosed.

3. Mandatory Component 3: Detailed Budget Estimate

A detailed budget estimate is required for the funding level requested. The detail not only provides the tribe with an estimate of costs, but it also provides IEED with the means of evaluating each project. This line-by-line budget must fully detail all projected and anticipated expenditures under the TEDC proposal. The ranking committee reviews each budget estimate to determine whether the budget is reasonable and can produce the results outlined under the proposal.

Each proposed project function should have a separate budget. The budget should break out contract and consulting fees, travel, and all other relevant project expenses. Preparation of the budget portion of a proposal should be considered a top priority. A TEDC proposal that includes sound budget projections will receive a more favorable ranking over those proposals that fail to provide appropriate budget projections.

The budget should provide a comprehensive breakdown for those project line items that involve several components or contain numerous sub-functions.

(a) Contracted Personnel Costs. This includes all contracted personnel and consultants, their respective positions and time (staff-hour) allocations for the proposed functions of a project.

• Personnel funded under the Public Law 93-638 Tribal Energy Development Capacity Program must have documented professional qualifications necessary to perform the work. Attach position descriptions to the budget estimate.

• If a consultant is to be hired for a fixed fee, itemize the consultant's expenses as part of the project budget.

• Consultant fees must be accompanied by documentation that clearly identifies the qualifications of the proposed consultants, specifies how the consultant(s) are to be used and includes a line item breakdown of costs associated with each consultant activity.

(b) Travel Estimates. Estimates should be itemized by airfare and vehicle rental, lodging and per diem, based on the current federal government per diem schedule.

(c) Data Collection and Analysis Costs. These costs should be itemized in sufficient detail for the reviewer to evaluate the charges.

(d) Other Expenses. Include computer rental, report generation, drafting, and advertising costs for a proposed project.

As previously stated, a tribe or tribal organization that expends TEDC funds on unapproved project functions is subject to forfeiture of any remaining funds in that project year as well as sanctions against receipt of any future year TEDC funding.

C. Submission of Application in Digital Format

Submit the application in digital form. Acceptable formats are MS Word, WordPerfect, and Adobe Acrobat PDF. Image and graphic files may be JPG, TIF, or other PC bit image file formats.

Files must be saved with filenames that clearly identify the file being submitted. File name extensions must clearly indicate the software application used for preparation of the documents (i.e., .wpd, .doc, .pdf.)

Documents requiring an original signature, such as cover letters, tribal resolutions, and other letters of tribal authorization must also be submitted in hard copy (paper) form.

If you have any additional questions concerning the Tribal Energy Development Capacity proposal submission process, please contact Darryl Francois, IEED's TEDC Coordinator at (202) 208-7253.

D. Award Evalaution and Administrative Information

1. Ranking Criteria

The proposal ranking criteria factors and associated scores as follows:

(a) Resource potential, 25 points.

(b) Energy development history and current status, 15 points.

(c) Existing energy development capabilities, 20 points.

(d) Demonstrated willingness to develop independent energy development business entity, 20 points.

(e) Tribal funding commitment, 20 points.

2. Ranking of Proposals and Award Letters

The TEDC review committee will rank the tribal energy development capacity proposals using the ranking criteria. The evaluation team will then forward the rated requests to the Director of IEED (Director) for approval. Once approved, the Director will submit all proposals to the Assistant Secretary of Indian Affairs for concurrence and announcement of awards to the selected tribes, via written notice. Those tribes not receiving an award will also be notified immediately in writing.

E. When to Submit

The IEED will accept applications at any time before August 6, 2007, and will send a notification of receipt to the return address on the application package, along with a determination of whether or not the application is complete. However, the technical evaluation of the proposal will begin only after August 6, 2007.

F. Where to Submit

Applicants must submit the Tribal Energy Development Capacity proposals to IEED at the following address: ATTN: Tribal Energy Development Capacity Proposal, South Interior Building—Room 20, 1951 Constitution Avenue, NW., Washington, DC 20245.

A tribe may fax a complete TEDC proposal to IEED prior to the deadline for submission of proposals; however, an original signature copy, including all signed tribal resolutions and/or letters of tribal authorization, must also be received in IEED's office within five working days after the deadline.

G. Transfer of Funds

IEED will transfer a tribe's TEDC funds to the BIA Regional Office that serves that tribe, via a sub-allotment funding document coded for the tribe's TEDC project. The tribe should be anticipating the transfer of funds and be in contact with their budget personnel contacts at the Regional and Agency office levels. Tribes receiving TEDC awards must establish a new 638 contract to complete the transfer process, or use an existing 638 contract, as applicable.

H. Reporting Requirements for Award Recipients

1. Quarterly Reporting Requirements

During the life of the TEDC project, quarterly reports are to be submitted to the IEED project coordinator assigned to your project. The beginning and ending quarter periods are to be based on the actual start date of the TEDC project. This date can be determined between the IEED project coordinator and the tribe.

The quarterly report can be a one to two page summary of events, accomplishments, problems and/or results that took place during the quarter. Quarterly reports are due two weeks after the end of a project's fiscal quarter.

2. Final Reporting Requirements

• Delivery Schedules: The tribe must deliver all products and data generated by the proposed assessment project to IEED through the TEDC project coordinator within two weeks after completion of the project.

• Provide Reports and Data in Digital Form. IEED requires that deliverable products be provided in digital format, along with printed hard copies. Reports can be provided in either MS Word or PDF format. Spreadsheet data can be provided in MS Excel or PDF formats. Images can be provided in PDF, JPEG, TIFF, or any of the Windows metafile formats.

• Number of Copies. When a tribe prepares a proposal for a TEDC project, it must describe the deliverable products and include a requirement that the products be prepared in standard format (see format description above). Each proposal's budget estimate will provide funding for a total of six printed and six digital copies of the final report to be distributed as follows:

(a) The tribe will receive two printed and two digital copies of the TEDC report.

(b) IEED will receive four printed copies and four digital copies of the report. IEED will transmit one of these copies to the tribe's BIA Regional Office, and one copy to the tribe's BIA Agency office.

(c) Two printed and two digital copies will then reside with IEED. These copies should be forwarded to the IEED office in Washington, DC, to the attention of the Tribal Energy Resource Agreement Office.

Dated: June 26, 2007.
Carl J. Artman,
Assistant Secretary—Indian Affairs.

[FR Doc. E7-13138 Filed 7-5-07; 8:45 am]

BILLING CODE 4310-40-P